ENVIRONMENTAL PROTECTION AGENCY

[EPA-HQ-OECA-2018-0248; FRL-10744-01-OMS]

Agency Information Collection Activities; Submission to the Office of Management and Budget for Review and Approval; Comment Request; Air Stationary Source Compliance and Enforcement Information Reporting (Renewal)

AGENCY: Environmental Protection Agency (EPA).

ACTION: Notice.

SUMMARY: The Environmental Protection Agency (EPA) has submitted an information collection request (ICR), Air Stationary Source Compliance and Enforcement Information Reporting (EPA ICR Number 0107.14, OMB Control Number 2060-0096) to the Office of Management and Budget (OMB) for review and approval in accordance with the Paperwork Reduction Act. This is a proposed extension of the ICR, which is currently approved through February 28, 2023. Public comments were previously requested via the Federal Register on August 26, 2022 during a 60-day comment period. This notice allows for an additional 30 days for public comments.

DATES: Comments may be submitted on or before March 27, 2023.

ADDRESSES: Submit your comments, referencing Docket ID Number EPA-HQ-OECA-2018-0248, to EPA online using https://www.regulations.gov/ (our preferred method), by email to a-and-r-docket@epa.gov, or by mail to: EPA Docket Center, Environmental Protection Agency, Mail Code 28221T, 1200 Pennsylvania Ave. NW, Washington, DC 20460. The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: David A. Meredith, Enforcement Targeting and Data Division, Office of Compliance, (2222A), U.S. Environmental Protection Agency, 1200 Pennsylvania Ave. NW, Washington, DC 20460; telephone number: 202-564-4152; email address: meredith.david@epa.gov.

SUPPLEMENTARY INFORMATION: This is a proposed extension of the ICR, which is currently approved through February 28, 2023. An agency may not conduct, or sponsor and a person is not required to respond to a collection of information unless it displays a currently valid OMB control number.

Public comments were previously requested via the Federal Register on August 26, 2022, during a 60-day comment period (87 FR 52552). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Air Stationary Source Compliance and Enforcement Information Reporting is an activity whereby State, Local, Tribal, Territorial, and Commonwealth governments (hereafter referred to as “delegated agencies”) report air stationary source compliance and enforcement information to the U.S. Environmental Protection Agency (the EPA or the Agency) on a regular basis. The information is provided to the EPA via input to the Integrated Compliance Information System (ICIS). ICIS contains compliance and enforcement information on thousands of facilities regulated under numerous federal statutes including the Clean Water Act—National Pollutant Discharge and Elimination System (NPDES) program. The modules within ICIS that are used to report air-related data are collectively referred to as ICIS-Air. Agencies receive delegation of the CAA through regulated grant authorities and report compliance/enforcement activities undertaken at stationary sources pursuant to the minimum data requirements as outlined in this ICR. The majority of delegated agencies maintain their own data system and extract data from it and report it to ICIS-Air using either electronic data transfer (EDT) or manually (“direct entry”). A small number of delegated agencies use ICIS-Air exclusively since they have no internal air compliance and enforcement database. The information provided to the EPA includes source information, compliance monitoring activities, violation determinations, and enforcement activities. The EPA uses this information and information from other data systems such as the Compliance and Emissions Data Interface (CEDRI) to assess the health of the compliance and enforcement program established under the Clean Air Act (CAA), to perform oversight activities of delegated agencies, and to provide public transparency about activities and findings related to compliance and enforcement at individual facilities or aggregated categories of facilities. The EPA also uses ICIS-Air to record comparable federal activities to support program management and transparency.

Form Numbers: None.

Respondents/affected entities: State, Local, Tribal, Territorial, and Commonwealth governments.

Respondent's obligation to respond: Mandatory (section 114(a)(1) of the Clean Air Act, 42 U.S.C. 7414(a)(1)).

Estimated number of respondents: 117 (total).

Frequency of response: Every 60 days.

Total estimated burden: 33,400 hours.

Estimated annual cost: $1,770,000. There are no annualized capital/startup or operation & maintenance costs.

Changes in estimates: There is decrease of 18,013 hours in the total estimated respondent burden compared with the ICR currently approved by OMB. The decrease is largely a result of respondents no longer transitioning from the AFS system to the ICIS-Air system, an activity that was included in the previously approved burden level of 51,413 hours. Additionally, many agencies now use a more efficient EDT submission method, which also reduces the annual burden.

Courtney Kerwin,
Director, Regulatory Support Division.

[FR Doc. 2023-03824 Filed 2-23-23; 8:45 am]

BILLING CODE 6560-50-P